DEPARTMENT OF AGRICULTURE

Forest Service

Forest Service Manual 2200, Chapters Zero, 10, 20, 30, 40, 50 and 70; Forest Service Handbook 2209.13, Chapters 10, 20, 30, 40, 50, 60, 70, 80 and 90; and Forest Service Handbook 2209.16, Chapter 10; Extension of Comment Period for Rangeland Management; Public Notice and Comment for Changes to Forest Service Directives

AGENCY: Forest Service, USDA.

ACTION: Issuance of proposed directives; notice of availability for public comment; extension of comment period.

SUMMARY: The Forest Service published a notice in the Federal Register on December 18, 2020, 85 FR 82432, initiating a 60-day comment period on the Proposed Directives for Rangeland Management; Forest Service Manual 2200, Chapters Zero, 10, 20, 30, 40, 50 and 70; Forest Service Handbook 2209.13, Chapters 10, 20, 30, 40, 50, 60, 70, 80 and 90; and Forest Service Handbook 2209.16, Chapter 10. The closing date of the original notice is scheduled for February 16, 2021. The Agency is extending the comment period for an additional 60 days from the previous closing date.

DATES: Comments must be received in writing by April 17, 2021.

ADDRESSES: Comments may be submitted electronically to https://cara.ecosystem-management.org/Public/CommentInput?project=ORMS-2514. Written comments may be mailed to U.S. Forest Service, Director, Forest Management, Range Management and Vegetation Ecology, 201 14th Street SW, Washington, DC 20250-1124. All timely received comments, including names and addresses, will be placed in the record and will be available for public inspection and copying. The public may inspect comments received at https://cara.ecosystem-management.org/Public/CommentInput?Project=ORMS-2514.

FOR FURTHER INFORMATION CONTACT: Myra Black, Program Manager, Forest Management, Range Management and Vegetation Ecology, at 202-650-7365, or by electronic mail to myra.black@usda.gov. Individuals using telecommunication devices for the deaf may call the Federal Information Relay Service at 800-877-8339 between 8 a.m. and 8 p.m. Eastern Time, Monday through Friday.

SUPPLEMENTARY INFORMATION: The Forest Service Rangeland Management proposed directives were drafted in a good faith effort to provide greater management flexibility and enhance the clarity of policies and procedures applicable to the rangeland management program. To ensure that all members of the public who have an interest in rangeland management have the opportunity to provide comment, we are extending the comment period on the proposed directive to April 17, 2021.

The proposed directives and additional information on the proposed directives can be found at https://www.fs.fed.us/rangeland-management/directives.shtml. The additional information describes the purpose of the directives and why they are being updated and includes documents that will assist with review of the proposed directives and a schedule of informational webinars on the proposed directives.

After the public comment period closes, the Forest Service will consider timely and relevant comments in the development of the final directives. A notice of the final directives, including a response to timely and relevant comments, will be posted on the Forest Service's web page at https://www.fs.fed.us/about-agency/regulations-policies/comment-on-directives.

Tina Johna Terrell,
Associate Deputy Chief, National Forest System.

[FR Doc. 2021-02833 Filed 2-10-21; 8:45 am]

BILLING CODE 3411-15-P